DEPARTMENT OF DEFENSE

Office of the Secretary

[Transmittal No. 23-38]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-38, and Policy Justification.

Dated: October 7, 2024.
Patricia L. Toppings,
OSD Federal Register Liaison Officer, Department of Defense.

BILLING CODE 6001-FR-P

BILLING CODE 6001-FR-C

Transmittal No. 23-38

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0 million
Other | $108 million
TOTAL | $108 million

(iii) Description and Quantity or Quantities of Articles or Services under Consideration for Purchase:

Major Defense Equipment (MDE):

None

Non-MDE:

A Cooperative Logistics Supply Support Arrangement (CLSSA) Foreign Military Sales Order II (FMSO II) to support the purchase of spare and repair parts for wheeled vehicles, weapons, and other related elements of program support.

(iv) Military Department: Army (TW-B-KZJ)

(v) Prior Related Cases, if any: TW-B-KZD, TW-B-KZC

(vi) Sales Commission, Fee, etc., Paid, Offered, or Agreed to be Paid: None known at this time

(vii) Sensitivity of Technology Contained in the Defense Article or Defense Services Proposed to be Sold: None

(viii) Date Report Delivered to Congress: June 29, 2023

* As defined in Section 47(6) of the Arms Export Control Act.

POLICY JUSTIFICATION

Taipei Economic and Cultural Representative Office in the United States (TECRO)—Blanket Order Cooperative Logistics Supply Support Arrangement (CLSSA) Foreign Military Sales Order II (FMSO II)

The Taipei Economic and Cultural Representative Office in the United States (TECRO) has requested to buy a Cooperative Logistics Supply Support Arrangement (CLSSA) Foreign Military Sales Order II (FMSO II) to support the purchase of spare and repair parts for wheeled vehicles, weapons, and other related elements of program support. The estimated total cost is $108 million.

This proposed sale is consistent with U.S. law and policy as expressed in Public Law 96-8.

This proposed sale will support the foreign policy and national security objectives of the United States (U.S.) by supporting the recipient's continuing efforts to modernize its armed forces and to maintain a credible defensive capability. The proposed sale will help improve the security of the recipient and assist in maintaining political stability, military balance, and economic progress in the region.

The proposed sale will contribute to the sustainment of the recipient's vehicles, small arms, combat weapon systems, and logistical support items, enhancing its ability to meet current and future threats. The proposed sale will contribute to the recipient's goal of maintaining its military capability while further enhancing interoperability with the U.S. The recipient will have no difficulty absorbing this equipment and support into its armed forces.

The proposed sale of this equipment and support will not alter the basic military balance in the region.

The principal contractor(s) will be determined from approved vendors determined by the Defense Logistics Agency to provide these parts for the U.S. military. There are no known offset agreements proposed in connection with this potential sale.

Implementation of this proposed sale will not require the assignment of any additional U.S. Government or contractor representatives to the recipient.

There will be no adverse impact on U.S. defense readiness as a result of this proposed sale.

[FR Doc. 2024-23551 Filed 10-10-24; 8:45 am]

BILLING CODE 6001-FR-P